DEPARTMENT OF COMMERCE

National Oceanic and Atmospheric Administration

RIN 0648-XC244

Gulf of Mexico Fishery Management Council; Public Hearings

AGENCY: National Marine Fisheries Service (NMFS), National Oceanic and Atmospheric Administration (NOAA), Commerce.

ACTION: Notice of public hearings.

SUMMARY: The Gulf of Mexico Fishery Management Council (Council) will convene Public Hearings on proposed Reef Fish Amendment 37 addressing revisions to the gray triggerfish rebuilding plan including adjustments to the annual catch limits and annual catch targets for the commercial and recreational sectors. Public hearings will also be held simultaneously on a proposed Framework Action to modify the 2013 recreational gag fishing season, consider changes to the gag bag limit, and consider modifying or eliminating the February 1 through March 31 recreational closed season on shallow-water grouper.

DATES: The public hearings will be held from October 15-18, 2012 at eight locations throughout the Gulf of Mexico. The public hearings will begin at 6 p.m. and will conclude no later than 9 p.m. For specific dates, see SUPPLEMENTARY INFORMATION.

ADDRESSES: The public hearings will be held in the following locations: Naples, St. Petersburg, and Destin, FL; Gulf Shores, AL; D'Iberville, MS; Kenner, LA; Galveston and Corpus Christi, TX.

Council address: Gulf of Mexico Fishery Management Council, 2203 North Lois Avenue, Suite 1100, Tampa, FL 33607.

FOR FURTHER INFORMATION CONTACT: For Reef Fish Amendment 37: Dr. Carrie Simmons, Fishery Biologist; Gulf of Mexico Fishery Management Council; telephone: (813) 348-1630 x231. For the gag Framework Action: Steven Atran, Population Dynamics Statistician, Gulf of Mexico Fishery Management Council; telephone: (813) 348-1630 x227.

SUPPLEMENTARY INFORMATION: The Council will convene public hearings on two proposed actions to the Reef Fish Fishery Management Plan. Reef Fish Amendment 37 proposes modifications to the gray triggerfish rebuilding plan including modifications to the annual catch limits and annual catch targets for the commercial and recreational sectors. Proposed commercial management measures needed to meet the reduction in the annual catch limit and annual catch target for gray triggerfish include establishing a fixed closed season and a trip limit. Proposed recreational management measures include establishing a fixed closed season and modifying the recreational bag limit for gray triggerfish within the 20-reef fish aggregate bag limit. This amendment also includes proposed modifications to the recreational accountability measures to allow NOAA Fisheries Service to close the recreational sector once the annual catch target is reached or projected to be reached, and if the annual catch limit is exceeded to apply an overage adjustment by reducing the annual catch limit and optional annual catch target the following fishing season.

The Framework Action to set the 2013 gag recreational fishing season, bag limit, and to modify the February through March shallow-water grouper closed season contains alternatives for modifications to regulations addressing recreational fishing for gag and shallow-water grouper. Alternatives being considered to modify the recreational gag fishing season would change the starting date for the recreational gag season from July 1 to an earlier time when there is greater demand to fish for gag, or would split the season into two or three sub-seasons. Changing the season to times when there is greater demand may reduce the number of fishing days relative to the status quo, so suboptions within the alternatives consider either retaining the current gag bag limit of 2 fish per person within the 4-fish aggregate shallow-water grouper bag limit, or reducing the bag limit for gag to 1 fish in order to extend the season. The Framework Action will also consider revising the current closed season on recreational harvest of shallow-water grouper by either shortening or eliminating the closed season, moving it to a different date, or having the closed season apply only seaward of the 20 fathom depth contour while eliminating it shoreward of 20 fathoms.

Monday, October 15, 2012, Country Inn & Suites, 4415 Commons Drive East, Destin, FL 32541, telephone: (850) 650-9191; Courtyard Marriott, 3250 Tamiami Trail N (US 41 N.), Naples, FL 34103, telephone: (239) 434-8700.

Tuesday, October 16, 2012, Sirata Hotel, 5300 Gulf Boulevard, St. Petersburg, FL 33706, telephone: (727) 363-5100; Holiday Inn Express & Suites, 160 W. Commerce Boulevard, Gulf Shores, AL 36542, telephone: (251) 948-6191.

Wednesday, October 17, 2012, Courtyard Marriott, 11471 Cinema Drive, D'Iberville, MS 39540, telephone: (228) 392-1200; Hilton Galveston, 5400 Seawall Boulevard, Galveston Island, TX 77551, telephone: (409) 744-5000.

Thursday, October 18, 2012, Harte Institute, 6300 Ocean Drive, Room 127, Corpus Christi, TX 78412-5869, telephone: (361) 825-2000; Crowne Plaza New Orleans Airport, 2829 Williams Boulevard, Kenner, LA 70062, telephone: (504) 467-5611.

Copies of the public hearing documents can be obtained by calling (813) 348-1630 or by visiting the Council's Web site at www.gulfcouncil.org.

Special Accommodations

These hearings are physically accessible to people with disabilities. Requests for sign language interpretation or other auxiliary aids should be directed to Kathy Pereira at the Council (see ADDRESSES) at least 5 working days prior to the hearing.

Dated: September 18, 2012.
Tracey L. Thompson,
Acting Deputy Director, Office of Sustainable Fisheries, National Marine Fisheries Service.

[FR Doc. 2012-23310 Filed 9-20-12; 8:45 am]

BILLING CODE 3510-22-P